DEPARTMENT OF JUSTICE

[OMB Number 1110-NEW]

Agency Information Collection Activities; Proposed eCollection eComments Requested; Approval of a New Collection; Rap Back Services Form (1-796)

AGENCY: Federal Bureau of Investigation, Department of Justice.

ACTION: 30-day notice.

SUMMARY: The Department of Justice (DOJ), Federal Bureau of Investigation (FBI), Criminal Justice Information Services (CJIS) Division will be submitting the following information collection request to the Office of Management and Budget (OMB) for review and approval in accordance with the Paperwork Reduction Act of 1995. The proposed information collection was previously published in the Federal Register (80 FR 9753), on February 24, 2015, allowing for a 60 day comment period.

DATES: Comments are encouraged and will be accepted for an additional 30 days until June 3, 2015.

FOR FURTHER INFORMATION CONTACT: If you have comments, especially on the estimated public burden or associated response time, suggestions, or need a copy of the proposed information collection instrument with instructions or additional information, please contact the Office of Management and Budget, Office of Information and Regulatory Affairs, Attention Department of Justice Desk Officer, Washington, DC 20503. Additionally, comments may be submitted via email to OIRA_submission@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Approval of a new collection.

(2) Title of the Form/Collection: Rap Back Services Form.

(3) Agency form number: 1-796.

(4) Affected public who will be asked or required to respond, as well as a brief abstract: Primary: This form is utilized by authorized agencies to enroll individuals in the Rap Back Service to ensure the submitting agency is notified when individuals in positions of trust engage in criminal conduct or individuals under the supervision of a criminal justice agency commit subsequent criminal acts.

(5) An estimate of the total number of respondents and the amount of time estimated for an average respondent to respond: It is estimated that 120,000 respondents will complete each form within approximately 5 minutes.

(6) An estimate of the total public burden (in hours) associated with the collection: There are an estimated 500 total annual burden hours associated with this collection.

If additional information is required contact: Jerri Murray, Department Clearance Officer, United States Department of Justice, Justice Management Division, Policy and Planning Staff, Two Constitution Square, 145 N Street NE., Room 3E.405B, Washington, DC 20530.

Dated: April 28, 2015.
Jerri Murray,
Department Clearance Officer for PRA, U.S. Department of Justice.

BILLING CODE 4410-02

[FR Doc. 2015-10301 Filed 5-1-15; 8:45 am]

BILLING CODE P